SECURITIES AND EXCHANGE COMMISSION

Sunshine Act Meeting

FEDERAL REGISTER CITATION OF PREVIOUS ANNOUNCEMENT: [70 FR22380, April 29, 2005].

STATUS: Closed meeting.

PLACE: 450 Fifth Street, NW., Washington, DC.

DATE AND TIME OF PREVIOUSLY ANNOUNCED MEETING: Tuesday, May 3, 2005 at 2 p.m.

CHANGE IN THE MEETING MEETING: Cancellation of meeting.

The Closed Meeting scheduled for Tuesday, May 3, 2005 has been cancelled.

For further information please contact the Office of the Secretary at (202) 942-7070.

Dated: April 29, 2005.
Jonathan G. Katz,
Secretary.

[FR Doc. 05-9019 Filed 5-2-05; 3:05 pm]

BILLING CODE 8010-01-P